ENVIRONMENTAL PROTECTION AGENCY

[EPA-HQ-OPP-2008-0046; FRL-8354-6]

Notice of Filing of Pesticide Petitions for Residues of Pesticide Chemicals in or on Various Commodities

AGENCY: Environmental Protection Agency (EPA).

ACTION: Notice.

SUMMARY: This notice announces the initial filing of pesticide petitions proposing the establishment or modification of regulations for residues of pesticide chemicals in or on various commodities.

DATES: Comments must be received on or before April 11, 2008.

ADDRESSES: Submit your comments, identified by docket identification (ID) number EPA-HQ-OPP-2008-0046 and the pesticide petition number (PP) of interest, by one of the following methods:

• Federal eRulemaking Portal: http://www.regulations.gov. Follow the on-line instructions for submitting comments.

• Mail: Office of Pesticide Programs (OPP) Regulatory Public Docket (7502P), Environmental Protection Agency, 1200 Pennsylvania Ave., NW., Washington, DC 20460-0001.

• Delivery: OPP Regulatory Public Docket (7502P), Environmental Protection Agency, Rm. S-4400, One Potomac Yard (South Bldg.), 2777 S. Crystal Dr., Arlington, VA. Deliveries are only accepted during the Docket's normal hours of operation (8:30 a.m. to 4 p.m., Monday through Friday, excluding legal holidays). Special arrangements should be made for deliveries of boxed information. The Docket Facility telephone number is (703) 305-5805.

Instructions: Direct your comments to EPA-OPP-2008-0046 the assigned docket ID number and the pesticide petition number of interest. EPA's policy is that all comments received will be included in the docket without change and may be made available on-line at http://www.regulations.gov, including any personal information provided, unless the comment includes information claimed to be Confidential Business Information (CBI) or other information whose disclosure is restricted by statute. Do not submit information that you consider to be CBI or otherwise protected through regulations.gov or e-mail. The regulations.gov website is an “anonymous access” system, which means EPA will not know your identity or contact information unless you provide it in the body of your comment. If you send an e-mail comment directly to EPA without going through regulations.gov, your e-mail address will be automatically captured and included as part of the comment that is placed in the docket and made available on the Internet. If you submit an electronic comment, EPA recommends that you include your name and other contact information in the body of your comment and with any disk or CD-ROM you submit. If EPA cannot read your comment due to technical difficulties and cannot contact you for clarification, EPA may not be able to consider your comment. Electronic files should avoid the use of special characters, any form of encryption, and be free of any defects or viruses.

Docket: All documents in the docket are listed in the docket index available in regulations.gov. To access the electronic docket, go to http://www.regulations.gov, select “Advanced Search,” then “Docket Search.” Insert the docket ID number where indicated and select the “Submit” button. Follow the instructions on the regulations.gov website to view the docket index or access available documents. Although listed in the index, some information is not publicly available, e.g., CBI or other information whose disclosure is restricted by statute. Certain other material, such as copyrighted material, is not placed on the Internet and will be publicly available only in hard copy. Publicly available docket materials are available electronically at http://www.regulations.gov, or, if only available in hard copy, at the OPP Regulatory Public Docket in Rm. S-4400, One Potomac Yard (South Bldg.), 2777 S. Crystal Dr., Arlington, VA. The hours of operation of this Docket Facility are from 8:30 a.m. to 4 p.m., Monday through Friday, excluding legal holidays. The Docket Facility telephone number is (703) 305-5805.

FOR FURTHER INFORMATION CONTACT: The person listed at the end of the pesticide petition summary of interest.

SUPPLEMENTARY INFORMATION:

I. General Information

A. Does this Action Apply to Me?

You may be potentially affected by this action if you are an agricultural producer, food manufacturer, or pesticide manufacturer. Potentially affected entities may include, but are not limited to:

• Crop production (NAICS code 111).

• Animal production (NAICS code 112).

• Food manufacturing (NAICS code 311).

• Pesticide manufacturing (NAICS code 32532).

This listing is not intended to be exhaustive, but rather provides a guide for readers regarding entities likely to be affected by this action. Other types of entities not listed in this unit could also be affected. The North American Industrial Classification System (NAICS) codes have been provided to assist you and others in determining whether this action might apply to certain entities. If you have any questions regarding the applicability of this action to a particular entity, consult the person listed at the end of the pesticide petition summary of interest.

B. What Should I Consider as I Prepare My Comments for EPA?

1. Submitting CBI. Do not submit this information to EPA through regulations.gov or e-mail. Clearly mark the part or all of the information that you claim to be CBI. For CBI information in a disk or CD-ROM that you mail to EPA, mark the outside of the disk or CD-ROM as CBI and then identify electronically within the disk or CD-ROM the specific information that is claimed as CBI. In addition to one complete version of the comment that includes information claimed as CBI, a copy of the comment that does not contain the information claimed as CBI must be submitted for inclusion in the public docket. Information so marked will not be disclosed except in accordance with procedures set forth in 40 CFR part 2.

2. Tips for preparing your comments. When submitting comments, remember to:

i. Identify the document by docket ID number and other identifying information (subject heading, Federal Register date and page number).

ii. Follow directions. The Agency may ask you to respond to specific questions or organize comments by referencing a Code of Federal Regulations (CFR) part or section number.

iii. Explain why you agree or disagree; suggest alternatives and substitute language for your requested changes.

iv. Describe any assumptions and provide any technical information and/or data that you used.

v. If you estimate potential costs or burdens, explain how you arrived at your estimate in sufficient detail to allow for it to be reproduced.

vi. Provide specific examples to illustrate your concerns and suggest alternatives.

vii. Explain your views as clearly as possible, avoiding the use of profanity or personal threats.

viii. Make sure to submit your comments by the comment period deadline identified.

II. Docket ID Numbers

When submitting comments, please use the docket ID number and the pesticide petition number of interest, as shown in the table.

PP Number | Docket ID Number
PP 7E7280 | EPA-HQ-OPP-2007-1192
PP 7E7281 | EPA-HQ-OPP-2007-1192
PP 7E7282 | EPA-HQ-OPP-2007-1191
PP 7E7283 | EPA-HQ-OPP-2007-1191
PP 7E7308 | EPA-HQ-OPP-2008-0125
PP 8E7318 | EPA-HQ-OPP-2008-0126
PP 0F6159 | EPA-HQ-OPP-2007-1021
PP 7F7301 | EPA-HQ-OPP-2008-0139
PP 7E7281 | EPA-HQ-OPP-2007-1192
PP 7E7283 | EPA-HQ-OPP-2007-1191
PP 7E7305 | EPA-HQ-OPP-2008-0095
PP 8E7321 | EPA-HQ-OPP-2008-0096

III. What Action is the Agency Taking?

EPA is printing notice of the filing of pesticide petitions received under section 408 of the Federal Food, Drug, and Cosmetic Act (FFDCA), 21 U.S.C. 346a, proposing the establishment or modification of regulations in 40 CFR part 180 for residues of pesticide chemicals in or on various food commodities. EPA has determined that the pesticide petitions described in this notice contain data or information regarding the elements set forth in FFDCA section 408(d)(2); however, EPA has not fully evaluated the sufficiency of the submitted data at this time or whether the data support granting of the pesticide petitions. Additional data may be needed before EPA rules on these pesticide petitions.

Pursuant to 40 CFR 180.7(f), a summary of each of the petitions included in this notice, prepared by the petitioner, is included in a docket EPA has created for each rulemaking. The docket for each of the petitions is available on-line at http://www.regulations.gov.

A. New Tolerance

1. and 2. PPs 7E7280 and 7E7281. (EPA-HQ-OPP-2007-1192). Interregional Research Project #4 (IR-4), 500 College Road East, Suite 201 W, Princeton, NJ 08540, proposes to establish a tolerance for residues of the fungicide famoxadone in or on food commodities PP 7E7280: Leaf petioles, subgroup 4B at 25 parts per million (ppm); and PP 7E7281: Leafy greens, subgroup 4A and cilantro at 50 ppm; Bulb vegetables, group 3-07 at 40 ppm; and caneberry, subgroup 13-07A at 10 ppm. An analytical enforcement method is available for determining famoxadone plant residues in or on potatoes, cucurbit vegetables (cucumbers, melons, and squash), fruiting vegetables (tomatoes, peppers), and head lettuce using gas-liquid chromatography (GC) with nitrogen phosphorus detection (NPD). The method is applicable to high and medium moisture, oily and non-oily crops and related matrices. The limit of quantitation (LOQ) is 0.02 ppm. The LOQ is 0.02 ppm for leafy vegetables and green onion. The LOQ is 0.05 ppm for dry bulb onion. The analytical enforcement for use on tomato processed fractions and also the RAC, tomato, utilizes column switching liquid chromatography with ultraviolet (UV) detection. The LOQ is 0.02 ppm. The LOQ in each method allows monitoring of crops with famoxadone residues at or above the levels proposed in these tolerances. Contact: Susan Stanton, (703) 305-5218, stanton.susan@epa.gov.

3. and 4. PPs 7E7282 and 7E7283. (EPA-HQ-OPP-2007-1191). Interregional Research Project #4 (IR-4), 500 College Road East, Suite 201 W, Princeton, NJ 08540, proposes to establish a tolerance for residues of the fungicide cymoxanil; 2-cyano-N-[(ethylamino)carbonyl]-2-(methoxyimino)acetamide in or on food commodities PP 7E7282: Leaf petioles, subgroup 4B at 6 ppm; and PP 7E7283: Leafy greens, subgroup 4A and Cilantro at 19 ppm; bulb vegetables, group 3-07 at 1.1 ppm; and Caneberry, subgroup 13-07A at 4 ppm. An analytical enforcement method is available for determining these plant residues by high performance level chromatography (HPLC) with ultraviolet (UV) detection. The limit of quantitation allows monitoring of crops with cymoxanil residues at or above the levels proposed in these tolerances. The LOQ is 0.05 ppm for cymoxanil. Contact: Susan Stanton, (703) 305-5218, stanton.susan@epa.gov.

5. PP 7E7308. (EPA-HQ-OPP-2008-0125). FMC Corporation, 1735 Market Street, Philadelphia, PA 19103, and Interregional Research No. 4 ( IR-4) Rutgers, The State University of New Jersey, 500 College Road East, Suite 201-W, Princeton, NJ 08540, proposes to establish a tolerance for residues of the herbicide sulfentrazone (N-[2,4-dichloro-5-[4-(difluoromethyl)-4,5-dihydro-3-methyl-5-oxo-1H-1,2,4-triazol-1-yl]phenyl]-methanesulfonamide) and its metabolites 3-hydroxymethyl-sulfentrazone (N-[2,4-dichloro-5-[4-(difluoromethyl)-4,5-dihydro-3-hydroxymethyl-5-oxo-1H-1,2,4-triazol-1-yl]phenyl]methanesulfonamide) and 3-desmethyl sulfentrazone (N-[2,4-dichloro-5-[4-(difluoromethyl)-4,5-dihydro-5-oxo-1H-1,2,4-triazol-1-yl]phenyl]methanesulfonamide) in or on food commodities brassica, head and stem, subgroup 5A at 0.20 ppm; brassica, leafy greens, subgroup 5B at 0.35 ppm; melon, subgroup 9A at 0.10 ppm; vegetable, fruiting, group 8 at 0.05 ppm; okra at 0.05 ppm; pea, succulent at 0.05 ppm; flax at 0.05 ppm; strawberry at 0.05 ppm, and vegetable, tuberous and corm, subgroup 1C at 0.15 ppm There is a practical analytical method for detecting and measuring levels of sulfentrazone and its metabolites in or on food with a limit of detection that allows monitoring of food with residues at or above the levels set in these tolerances. The proposed analytical method for determining residues is hydrolysis followed by gas chromatographic separation. Contact: Shaja R. Brothers, (703) 308-3194, brothers.shaja@epa.gov.

6. PP 8E7318. (EPA-HQ-OPP-2008-0126). Interregional Research Project #4 (IR-4), 500 College Road East, Suite 201 W, Princeton, NJ 08540, proposes to establish a tolerance for residues of the insecticide bifenazate and its metabolite, diazinecarboxylic acid, 2-(4-methoxy-[1,1'-biphenyl]-3-yl), 1-methylethyl ester (expressed as bifenazate) in or on food commodities bean dry, seed at 0.2 ppm; grass, forage, fodder and hay, group 17, forage at 140 ppm; and grass, forage, fodder and hay, group 17, hay at 120 ppm. Chemtura Corporation has developed practical analytical methodology for detecting and measuring residues of bifenazate in or on raw agricultural commodities. As D3598, a significant metabolite, was found to interconvert readily to/from bifenazate, the analytical method was designed to convert all residues of D3598 to the parent compound (bifenazate) for analysis. The method utilizes reversed phase HPLC to separate the bifenazate from matrix derived interferences, and oxidative coulometric electrochemical detection for the identification and quantification of this analyte. Using this method the limit of quantitation (LOQ) for bifenazate in stone fruit, pome fruit, grapes, strawberries, and cotton was 0.01 ppm. For hops the LOQ was 0.05 ppm. The limit of detection for this method, which varies with matrix, is 0.005 ppm. The analytical method for bifenazate and its major metabolite D3598 in animal samples was designed using the same principles invoked in the plant method, with minor modifications. However, in animal samples, a separate aliquot of the extract was used to determine residues of A1530 and its sulfate (combined) in milk and meat samples (these metabolites appeared to be significant in goat metabolism studies). The extract was subjected to acid hydrolysis to convert the sulfate conjugate to A1530 before it was quantified by HPLC using fluorescence or OCED detectors. Contact: Susan Stanton, (703) 305-5218, stanton.susan@epa.gov.

7. PP 0F6159. (EPA-HQ-OPP-2007-1021). Nichino America, Inc., 4550 New Linden Hill Road, Suite 501, Wilmington, DE 19808, proposes to establish a tolerance for the indirect or inadvertent residues of the fungicide, flutolanil [N-(3-(1-methylethoxy)phenyl)-2- (trifluoromethyl)benzamide] and its metabolite, M-4, desisopropyl flutolanil [N-(3-hydroxyphenyl)-2-(trifluromethyl)benzamide], expressed as 2-trifluoromethyl benzoic acid and calculated as flutolanil in or on food commodities soybean, forage at 9.0 ppm; soybean, hay at 2.0 ppm; soybean, seed at 0.20 ppm; wheat, bran at 0.30 ppm; wheat, forage at 2.0 ppm; wheat, grain at 0.10 ppm; wheat, hay at 1.0 ppm; and wheat, straw at 0.30 ppm. A previously submitted analytical method designated AU-95R-04 (MRID 45104001), a gas chromatography, mass spectrometry detection method has been independently validated and is adequate for enforcement purposes for flutolanil residue detection in soybean and wheat raw agricultural commodities. A multi-residue method for flutolanil has been previously submitted. This notice supersedes the previously published notice issued in the Federal Register of January 23, 2008 (73 FR 3967) (FRL-8345-7) for this pesticide petition (PP 0F6159). Contact: Lisa Jones, (703) 308-9424, jones.lisa@epa.gov.

8. PP 7F7301. (EPA-HQ-OPP-2008-0139). Syngenta Crop Protection, Inc., P.O. Box 18300, Greensboro, NC 27419-8300, proposes to establish a tolerance for residues of the insecticide thiamethoxam {3-[(2-chloro-5-thiazolyl)methyl] tetrahydro-5-methyl-N-nitro-4H-1,3,5-oxadiazin-4-imine}(CAS Reg. No. 153719-23-4) and its metabolite [N-(2-chloro-thiazol-5-ylmethyl)-N'-methyl-N'-nitro-guanidine] in or on food commodities soybean, hulls at 2.0 ppm and grain, aspirated fractions at 0.08 ppm. Syngenta Crop Protection, Inc. has submitted practical analytical methodology for detecting and measuring levels of thiamethoxam in or on raw agricultural commodities. This method is based on crop specific cleanup procedures and determination by liquid chromatography with either ultraviolet (UV) or mass spectrometry (MS) detections. The limit of detection (LOD) for each analyte of this method is 1.25 ng injected for samples analyzed by UV and 0.25 ng injected for samples analyzed by MS, and the limit of quantification (LOQ) is 0.005 ppm for milk and juices, and 0.01 ppm for all other substrates. Contact: Julie Chao, (703) 308-8735, chao.julie@epa.gov.

B. Amendment to Existing Tolerance

1. PP 7E7281. (EPA-HQ-OPP-2007-1192). Interregional Research Project #4 (IR-4), 500 College Road East, Suite 201 W, Princeton, NJ 08540, also proposes to remove the existing tolerances in 40 CFR 180.587 for residues of the fungicide famoxadone in or on the food commodities lettuce, head; and caneberry, subgroup 13A at 10 parts per million (ppm) which would be replaced by the proposed subgroup tolerances on leafy, greens, subgroup 4A; and caneberry, subgroup 13-07A. Contact: Susan Stanton, (703) 305-5218, stanton.susan@epa.gov.

2. PP 7E7283. (EPA-HQ-OPP-2007-1191). Interregional Research Project #4 (IR-4), 500 College Road East, Suite 201 W, Princeton, NJ 08540, also proposes to remove the existing tolerances in 40 CFR 180.503 for residues of the fungicide cymoxanil; 2-cyano-N-[(ethylamino)carbonyl]-2-(methoxyimino)acetamide in or on the food commodities lettuce, head; and caneberry at 4.0 ppm which would be replaced by the proposed subgroup tolerances on leafy, greens, subgroup 4A; and caneberry, subgroup 13-07A. Contact: Susan Stanton, (703) 305-5218, stanton.susan@epa.gov.

C. New Exemption from Tolerance

1. PP 7E7305. (EPA-HQ-OPP-2008-0095). Syngenta Crop Protection, P.O. Box 18300, Greensboro, NC 27409, proposes to amend 40 CFR part 180 by establishing an exemption from the requirement of a tolerance under 40 CFR 180.910 for residues of Poly(oxy-1,2 ethanediyl),α-[2,4,6-tris(1-phenylethyl) phenyl]-ω-hydroxy- (CAS Reg. No. 70559-25-0) and Poly(oxy-1,2 ethanediyl),α-[tris(1-phenylethyl) phenyl]-ω-hydroxy-, ammonium salt (CAS Reg. No. 99734-09-5), herein referred to in this document as tristyrylphenol ethoxylates, as an inert ingredient in post-harvest applications at a maximum of 10.0% for each inert in an end-use product formulation. This request is specific for the post-harvest uses of tristyrylphenol ethoxylates and not impacting the existing pre-harvest tolerance exemption in 40 CFR 180.920 granted by the Agency for these ethoxylates with a limit of not more than 15% of the formulation. Because this petition is a request for an exemption from the requirement of a tolerance, no analytical method is required. Contact: Karen Samek, (703) 347-8825, samek.karen@epa.gov.

2. PP 8E7321. (EPA-HQ-OPP-2008-0096). Solvay Chemicals, Inc., 3333 Richmond Ave., Houston, TX 77098, proposes to amend 40 CFR 180 by establishing an exemption from the requirement of a tolerance under 40 CFR 180.960 for residues of 2-oxepanone, homopolymer (CAS Reg. No. 24980-41-4) in or on food commodities when used as a pesticide inert ingredient in a pesticide product. Because this petition is a request for an exemption from the requirement of a tolerance, no analytical method is required. Contact: Karen Samek, (703) 347-8825, samek.karen@epa.gov.

List of Subjects

Environmental protection, Agricultural commodities, Feed additives, Food additives, Pesticides and pests, Reporting and recordkeeping requirements.

Dated: March 4, 2008.
Lois Rossi,
Director, Registration Division, Office of Pesticide Programs.

[FR Doc. E8-4967 Filed 3-11-08; 8:45 am]

BILLING CODE 6560-50-S